ENVIRONMENTAL PROTECTION AGENCY

[EPA-HQ-OAR-2022-0086; FRL-10513-01-OMS]

Information Collection Request Submitted to OMB for Review and Approval; Comment Request; NESHAP for Phosphoric Acid Manufacturing and Phosphate Fertilizers Production (Renewal)

AGENCY: Environmental Protection Agency (EPA).

ACTION: Notice.

SUMMARY: The Environmental Protection Agency has submitted an information collection request (ICR), NESHAP for Phosphoric Acid Manufacturing and Phosphate Fertilizers Production (EPA ICR Number 1790.10, OMB Control Number 2060-0361, to the Office of Management and Budget (OMB) for review and approval in accordance with the Paperwork Reduction Act. This is a proposed extension of the ICR, which is currently approved through January 31, 2023. Public comments were previously requested, via the Federal Register, on April 8, 2022 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before January 19, 2023.

ADDRESSES: Submit your comments, referencing Docket ID Number EPA-HQ-OAR-2022-0086, to: (1) EPA online using https://www.regulations.gov/ (our preferred method), or by email to docket@epa.gov, or by mail to: EPA Docket Center, Environmental Protection Agency, Mail Code 28221T, 1200 Pennsylvania Ave. NW, Washington, DC 20460; and (2) OMB's Office of Information and Regulatory Affairs using the interface at: https://www.reginfo.gov/public/do/PRAMain. Find this specific information collection by selecting “Currently under Review—Open for Public Comments” or by using the search function.

The EPA's policy is that all comments received will be included in the public docket without change, including any personal information provided, unless the comment includes profanity, threats, information claimed to be Confidential Business Information (CBI), or other information whose disclosure is restricted by statute.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit http://www.epa.gov/dockets.

Abstract: The National Emission Standards for Hazardous Air Pollutants (NESHAP) for Phosphoric Acid Manufacturing and Phosphate Fertilizers Production (40 CFR part 63, subparts AA and BB) were proposed on December 27, 1996; promulgated on June 10, 1999; and amended on: June 12, 2002; April 20, 2006; August 19, 2015; September 28, 2017; and November 3, 2020. These regulations apply to both new and existing phosphoric acid manufacturing facilities and phosphate fertilizers production facilities that are major sources of hazardous air pollutants (HAPs). The rule applies to component processes at these facilities and to any new, or modified, or reconstructed sources. Component processes include the following facilities: wet process phosphoric acid plants; super-phosphoric acid plants; purified phosphoric acid plants; phosphate rock dryers; phosphate rock calciners; diammonium and monoammonium phosphate plants; and granular triple superphosphate (GTSP) plants. The EPA most-recently finalized rule amendments on November 9, 2020 (85 FR 69508). The final rule included a narrow revision to 40 CFR part 63, subpart AA to revise the mercury MACT floor for existing calciners. This ICR incorporates the amendments from the final rule, however, these amendments included no changes to the projected costs and hour burden from the information collection requirements of the 2015 final rule. New facilities include those that commenced either construction, or modification, or reconstruction after the date of proposal. This information is being collected to assure compliance with 40 CFR part 63, subparts AA and BB.

Form Numbers: None.

Respondents/affected entities: Phosphoric acid and phosphate fertilizer production facilities

Respondent's obligation to respond: Mandatory (40 CFR 63, Subparts AA and BB).

Estimated number of respondents: 13 (total).

Frequency of response: Quarterly, semiannual.

Total estimated burden: 2,200 hours (per year). Burden is defined at 5 CFR 1320.3(b).

Total estimated cost: $ 463,000 (per year), which includes $199,000 in annualized capital/startup and/or operation & maintenance costs.

Changes in the Estimates: There is no change in burden from the most-recently approved ICR as currently identified in the OMB Inventory of Approved Burdens. This is due to two considerations: (1) the regulations have not changed significantly over the past three years and are not anticipated to change over the next three years; and (2) the growth rate for this industry is either very low or non-existent, so there is no significant change in the overall burden. There is an increase in capital/startup and/or operation & maintenance costs. We have updated the capital/startup or operation and maintenance (O&M) costs from 2015 dollars to 2020 dollars using the annual Chemical Engineering Plant Cost Index (CEPCI).

Courtney Kerwin,
Director, Regulatory Support Division.

[FR Doc. 2022-27535 Filed 12-19-22; 8:45 am]

BILLING CODE 6560-50-P